DEPARTMENT OF HOMELAND SECURITY

[Docket No. CISA-2020-0004]

Notice of the President's National Infrastructure Advisory Council Meeting

AGENCY: Cybersecurity and Infrastructure Security Agency (CISA), Department of Homeland Security (DHS).

ACTION: Announcement of meeting; request for comments.

SUMMARY: CISA announces a public meeting of the President's National Infrastructure Advisory Council (NIAC). To facilitate public participation, CISA invites public comments on the agenda items and any associated briefing materials to be considered by the council at its next meeting.

DATES:

Written Comments: Written comments in response to the meeting minutes and briefing materials will be accepted through 5:00 p.m. EST on April 20, 2020.

NIAC Meeting: The meeting was held on Friday, March 13, 2020 from 4:00 p.m.-5:00 p.m. ET.

ADDRESSES: The meeting was held via conference call on March 13, 2020.

Comments: Written comments may be submitted on the issues considered by the NIAC as described in the SUPPLEMENTARY INFORMATION section below and any briefing materials for the meeting. The minutes for this meeting will be made publicly available on at the following website: https://www.dhs.gov/national-infrastructure-advisory-council.

Comments identified by docket number ” CISA-2020-0004” may be submitted by any of the following methods:

• Federal eRulemaking Portal: www.regulations.gov. Follow the instructions for submitting written comments.

• Email: NIAC@hq.dhs.gov. Include docket number CISA-2019-0017 in the subject line of the message.

• Fax: 703-235-9707, ATTN: Ginger K. Norris.

• Mail: Ginger K. Norris, Designated Federal Officer, National Infrastructure Advisory Council, Cybersecurity and Infrastructure Security Agency, Department of Homeland Security, 245 Murray Lane, Mail Stop 0612, Arlington, VA 20598-0612.

Instructions: All submissions received must include the agency name and docket number for this notice. All written comments received will be posted without alteration at www.regulations.gov, including any personal information provided. For detailed instructions on sending comments and additional information on participating in the upcoming NIAC meeting, see the “Public Participation” heading of the SUPPLEMENTARY INFORMATION section of this document.

Docket: For access to the docket and comments received by the NIAC, go to www.regulations.gov.

FOR FURTHER INFORMATION CONTACT: Ginger K. Norris, 202-441-5885, ginger.norris@cisa.dhs.gov.

SUPPLEMENTARY INFORMATION: The NIAC is established under Section 10 of E.O. 13231 issued on October 16, 2001. Notice of this meeting is given under the Federal Advisory Committee Act (FACA), 5 U.S.C. Appendix (Pub. L. 92-463). The NIAC shall provide the President, through the Secretary of Homeland Security, with advice on the security and resilience of the Nation's critical infrastructure sectors.

The NIAC met under an Exceptional Circumstance on March 13, 2020, to discuss the COVID-19 Pandemic and the ways in which the NIAC might be able to assist CISA with its ongoing response efforts. The following agenda was used for the NIAC discussion with CISA leadership.

Agenda

I. Call to Order

II. Opening Remarks

III. Discussion on COVID-19

IV. Closing Remarks

V. Adjournment

Public Participation

Meeting Registration Information

Any member of the public who wishes to provide written comment can do so by emailing NIAC@hq.dhs.gov no later than Friday, April 20, 2020, at 5:00 p.m. EST.

Information on Services for Individuals With Disabilities

For information on facilities or services for individuals with disabilities or to request special assistance at the meeting, contact NIAC@hq.dhs.gov as soon as possible.

Ginger K. Norris,
Designated Federal Official National Infrastructure Advisory Council, Cybersecurity and Infrastructure Security Agency, Department of Homeland Security.

[FR Doc. 2020-06933 Filed 4-2-20; 8:45 am]

BILLING CODE 9110-9P-P